DEPARTMENT OF LABOR

Employment and Training Administration

[TA-W-83,184]

Redflex Traffic Systems, Inc., North American Division, A Wholly Owned Subsidiary of Redflex Holdings, Ltd., Including On-Site Leased Workers From Iconma, BPS Staffing, AZ Tech Finder, and Volt Workforce Solutions, Phoenix, Arizona; Notice of Affirmative Determination Regarding Application for Reconsideration

By application dated February 18, 2014, a former worker requested administrative reconsideration of the negative determination regarding workers' eligibility to apply for Trade Adjustment Assistance (TAA) applicable to workers and former workers of the subject firm. The determination was issued on November 25, 2013 and the Department's Notice of determination was published in the Federal Register on February 13, 2014 (79 FR 8736). Workers at the subject firm are engaged in employment related to the installation, maintenance, and operation services of traffic enforcement systems.

The initial investigation resulted in a negative determination based on the findings that the subject firm did not shift to, or acquire from, a foreign country the services provided by the workers of the subject firm; further, neither the subject firm nor its customers imported services like or directly competitive with the services supplied by the workers.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration asserts that because the petition was filed only for workers of the Engineering Department, the scope of the investigation was overly broad and, consequently, detrimental to the petitioning workers. The petitioner further asserts that the Department's determination was based on inaccurate information and is, therefore, erroneous. The petitioner supplied facts not previously considered and information indicating a mistake in the determination of facts not previously considered. Based on these findings, the Department determines that 29 CFR 90.18(c) has been met.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 13th day of March, 2014.
Del Min Amy Chen,
Certifying Officer, Office of Trade Adjustment Assistance.

[FR Doc. 2014-06674 Filed 3-25-14; 8:45 am]

BILLING CODE 4510-FN-P